DEPARTMENT OF EDUCATION

[Docket No.: ED-2016-ICCD-0114]

Agency Information Collection Activities; Submission to the Office of Management and Budget for Review and Approval; Comment Request; Fast Response Survey System (FRSS) 108: Career and Technical Education (CTE) Programs in Public School Districts

AGENCY: National Center for Education Statistics (NCES), Department of Education (ED).

ACTION: Notice.

SUMMARY: In accordance with the Paperwork Reduction Act of 1995 (44 U.S.C. chapter 3501 et seq.), ED is proposing a new generic information collection under an approved generic information collection request clearance.

DATES: Interested persons are invited to submit comments on or before November 21, 2016.

ADDRESSES: To access and review all the documents related to the information collection listed in this notice, please use http://www.regulations.gov by searching the Docket ID number ED-2016-ICCD-0114. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fast Response Survey System (FRSS) 108: Career and Technical Education (CTE) Programs in Public School Districts.

OMB Control Number: 1850-0733.

Type of Review: A new generic information collection.

Respondents/Affected Public: Individuals.

Total Estimated Number of Annual Responses: 4,785.

Total Estimated Number of Annual Burden Hours: 826.

Abstract: This request is to conduct the Fast Response Survey System (FRSS) survey #108 on career and technical education (CTE) programs in public school districts. The Office of Career, Technical, and Adult Education (OCTAE) requested that NCES conduct this FRSS survey. About 95 percent of 9th grade students in 2009 attended a school that offered CTE instruction, either on campus or at a partnering school; 85 percent of public high school graduates had completed one or more occupational CTE courses; and 19 percent were CTE concentrators who had earned at least three credits in the same CTE field. Effective, high-quality CTE programs are aligned with college- and career-readiness standards as well as the needs of employers, industry, and labor, providing students with a curriculum that combines integrated academic and technical content and strong employability skills, as well as work-based learning opportunities that enable students to connect what they are learning to real-life career scenarios and choices. The students participating in effective CTE programs graduate with industry certifications or licenses and postsecondary certificates or degrees that prepare them for in-demand careers within high-growth industry sectors. The purpose of the FRSS 108 survey is to collect nationally representative data from public school districts about CTE programs offered by the districts, whether offered at district facilities or in a partnering off-site location, such as area CTE facilities or postsecondary institutions. The sample will focus on school districts with high schools because CTE programs are generally designed for high school students. The survey topics will focus on the extent to which districts provide high-quality CTE programs and how these programs are developed, designed, and implemented.

Dated: October 18, 2016.
Kate Mullan,
Acting Director, Information Collection Clearance Division, Office of the Chief Privacy Officer, Office of Management.

[FR Doc. 2016-25508 Filed 10-20-16; 8:45 am]

BILLING CODE 4000-01-P